DEPARTMENT OF COMMERCE

National Institute of Standards and Technology

Establishment of the Industrial Advisory Committee and Call for Nominations

AGENCY: National Institute of Standards and Technology, Department of Commerce.

ACTION: Notice of establishment and call for nominations to serve on the Industrial Advisory Committee.

SUMMARY: The Secretary of Commerce (Secretary), in consultation with the Secretary of Defense, the Secretary of Energy, and the Secretary of Homeland Security, announces the establishment of the Industrial Advisory Committee (the Committee) in accordance with the Federal Advisory Committee Act of 1972, as amended, and the William M. (Mac) Thornberry National Defense Authorization Act for Fiscal Year 2021 (Act). The Committee shall assess and provide guidance to the Secretary, through the National Institute for Standards and Technology (NIST), on matters relating to microelectronics research, development, manufacturing, and policy. NIST invites and requests nominations of individuals for appointment to the Committee. NIST will consider nominations received in response to this notice for appointment to the Committee, in addition to nominations already received.

DATES: Nominations for the Committee will be accepted on an ongoing basis and will be considered as and when vacancies arise.

ADDRESSES: Please submit nominations to Alicia Chambers, Committee Liaison Officer, National Institute of Standards and Technology, 100 Bureau Drive, MS 1000, Gaithersburg, MD 20899 and Tamiko Ford, Designated Federal Officer, National Institute of Standards and Technology, 100 Bureau Drive, MS 1000, Gaithersburg, MD 20899. Nominations may also be submitted via email to Alicia.Chambers@nist.gov and Tamiko.Ford@nist.gov.

FOR FURTHER INFORMATION CONTACT: Tamiko Ford, Designated Federal Officer, National Institute of Standards and Technology, 100 Bureau Drive, MS 1000, Gaithersburg, MD 20899. Her email is Tamiko.Ford@nist.gov and her phone number is (301) 975-2076.

SUPPLEMENTARY INFORMATION:

Committee Information

The Industrial Advisory Committee (Committee) is established pursuant to section 9906(b) of the William M. (Mac) Thornberry National Defense Authorization Act for Fiscal Year 2021, hereinafter referred to as the Act, and the Federal Advisory Committee Act, as amended, 5 U.S.C. App.

Objectives and Duties

The Committee shall act in the public interest to provide advice to the Secretary of Commerce through the National Institute of Standards and Technology (NIST) on (1) science and technology needs of the nation's domestic microelectronics industry; (2) the extent to which the strategy developed under section 9906(a)(3) of the Act is helping maintain United States leadership in microelectronics manufacturing; (3) assessment of the research and development programs and activities authorized under section 9906 of the Act; and (4) opportunities for new public-private partnerships to advance microelectronics research, development, and domestic manufacturing. The Committee shall not participate in selecting recipients of federal financial assistance.

Membership

Members of the Committee shall be appointed by the Secretary of Commerce. The Committee shall be composed of not fewer than 12 members who are qualified to provide advice to the United States Government on matters relating to microelectronics research, development, manufacturing, and policy. The membership shall be fairly balanced among representatives of the semiconductor industry, representatives of federal laboratories and academia, and other members. Private sector members of the Committee will serve as representative members. Members of the Committee who are federal officers or employees will serve as regular government employee (RGE) members.

The Committee members serve three-year terms and may serve two consecutive terms at the discretion of the Secretary, except that vacancy appointments shall be for the remainder of the unexpired term of the vacancy and that members shall have staggered terms such that the Committee will have approximately one-third new or reappointed members each year. A member who has served two consecutive full terms is ineligible to serve a third term for a period of one year following the expiration of the second term. Vacancies are filled as soon as highly qualified candidates in a needed area are identified and available to serve.

The Secretary of Commerce shall appoint the Committee Chair and Vice-Chair from among the Committee membership. The tenures of the Chair and Vice-Chair shall be two years and can be modified at the discretion of the Secretary.

Committee members will be reimbursed for travel and per diem as it pertains to official business of the Committee in accordance with 5 U.S.C. 5701 et seq. Committee members will serve without compensation, except that federal government employees who are members of the Committee shall remain covered by their compensation system pursuant to 41 CFR 102-3.130(h).

Miscellaneous

1. Meetings will be conducted at least twice a year at the call of the Designated Federal Officer in consultation with the Committee Chair.

2. Generally, Committee meetings are open to the public.

Nomination Information

1. Nominations are sought from all stakeholder areas including, but not limited to, industry, federal laboratories, and academic institutions, in fields relevant to microelectronics research, development, manufacturing, and policy, such as representatives specializing in various stages of microelectronics production and utilization, financing, labor, workforce development, as well as state and local government.

2. Nominees should have established records of distinguished service and shall be eminent in a field or fields described above. The category (field of eminence) for which the candidate is qualified should be specified in the nomination letter. A resume or biographical sketch should be included with the nomination, including (where applicable) current or former service on federal advisory boards and federal employment. In addition, each nomination letter should state that the candidate agrees to the nomination, acknowledges the responsibilities of serving on the Committee, and will actively participate in good faith in the tasks of the Committee. To ensure adequate consideration of relevant perspectives and stakeholders, the Secretary of Commerce will seek to appoint Committee members with a diverse set of backgrounds and experiences. The diverse membership of the Committee assures representation and expertise reflecting the full breadth of the Committee's responsibilities and, where possible, NIST will also consider the ethnic, racial, and gender diversity of the United States.

Alicia Chambers,
NIST Executive Secretariat.

[FR Doc. 2021-25986 Filed 11-29-21; 8:45 am]

BILLING CODE 3510-13-P